DEPARTMENT OF COMMERCE

International Trade Administration

(A-570-851)

Certain Preserved Mushrooms from the People(s Republic of China: Initiation of New Shipper Review

AGENCY: Import Administration, International Trade Administration, Department of Commerce.

EFFECTIVE DATE: April 7, 2008.

SUMMARY: The Department of Commerce (the “Department”) has received a request from Zhangzhou Golden Banyan Foodstuffs Industrial Co., Ltd. (“Golden Banyan”),¹ a producer and exporter of preserved mushrooms, to conduct a new shipper review (“NSR”) of the antidumping duty order on certain preserved mushrooms from the People’s Republic of China (“PRC”). Since this request meets the statutory and regulatory requirements for initiation, the Department is initiating a NSR of Golden Banyan, in accordance with section 751(a)(2)(B) of the Tariff Act of 1930, as amended (“the Act”), and 19 CFR 351.214(d).

¹ Zhangzhou Golden Banyan Foodstuffs Industrial Co., Ltd., has applied to the Zhangzhou Municipal Industrial and Commercial Administrative Bureau (“Commercial Administrative Bureau”) to change its name to Fujian Golden Banyan Foodstuffs Industrial Co., Ltd. On December 21, 2007, the Commercial Administrative Bureau granted Golden Banyan advanced approval for the company’s requested name change. However, Golden Banyan is still waiting for the name change to apply to the company’s business license and certificate of approval. Accordingly, Golden Banyan submitted its request for a new shipper review under both the company’s current and pending corporate names.

FOR FURTHER INFORMATION CONTACT: Shawn Higgins; AD/CVD Operations, Office 4, Import Administration, International Trade Administration, U.S. Department of Commerce, 14th Street and Constitution Ave., NW, Washington, DC 20230; telephone: (202) 482-0679.

SUPPLEMENTARY INFORMATION:

Background

On February 19, 1999, the Department published the antidumping duty order on certain preserved mushrooms from the PRC. See Notice of Amendment of Final Determination of Sales at Less Than Fair Value and Antidumping Duty Order: Certain Preserved Mushrooms From the People(s Republic of China, 64 FR 8308 (February 19, 1999). Thus, the antidumping duty order on certain preserved mushrooms from the PRC has a February anniversary month. The Department received a request for a NSR from Golden Banyan on February 29, 2008, which is during the annual anniversary month.

Golden Banyan identified itself as a producer and exporter of preserved mushrooms. Pursuant to section 751(a)(2)(B)(i)(I) of the Act, and 19 CFR 351.214(b)(2)(i), Golden Banyan certified that it did not export preserved mushrooms to the United States during the period of investigation (“POI”). Pursuant to section 751(a)(2)(B)(i)(II) of the Act, and 19 CFR 351.214(b)(2)(iii)(A), Golden Banyan also certified that it has never been affiliated with any exporter or producer that exported preserved mushrooms to the United States during the POI. Furthermore, the company also certified that its export activities are not controlled by the government of the PRC, satisfying the requirement of 19 CFR 351.214(b)(2)(iii)(B).

Pursuant to 19 CFR 351.214(b)(2)(iv), Golden Banyan submitted documentation establishing the date on which the subject merchandise was first entered for consumption in the United States, the volume of that first shipment and any subsequent shipments, and the date of the first sale to an unaffiliated customer in the United States. The Department queried the U.S. Customs and Border Protection (“CBP”) entry database, which confirmed that Golden Banyan had officially entered subject merchandise into the United States via assignment of an entry date in the Customs database by CBP. The Department issued Golden Banyan a supplemental questionnaire, focused on inconsistencies we observed between information supplied in Golden Banyan’s NSR request and the CBP data, on March 11, 2008. On March 20, 2008, the Department received a timely response from Golden Banyan to the supplemental questionnaire.

We note that although Golden Banyan submitted documentation regarding the volume of its shipment and the date of their first sale to an unaffiliated customer in the United States, our customs query shows that Golden Banyan’s shipment entered the United States shortly after the anniversary month. Under 19 CFR 351.214(f)(2)(ii), when the sale of the subject merchandise occurs within the period of review (“POR”), but the entry occurs after the normal POR, the POR may be extended unless it would be likely to prevent the completion of the review within the time limits set by the Department’s regulations. The preamble to the Department’s regulations states that both the entry and the sale should occur during the POR, and that under “appropriate” circumstances the Department has the flexibility to extend the POR. See Antidumping Duties; Countervailing Duties; Final Rule, 62 FR 27296, 27319-27320 (May 19, 1997). In this instance, Golden Banyan’s shipment entered a few days into the month following the end of the POR. The Department does not find that this delay prevents the completion of the review within the time limits set by the Department’s regulations.

Initiation of Review

Based on the information on the record, and in accordance with section 751(a)(2)(B) of the Act and 19 CFR 351.214(d)(1), we have determined that Golden Banyan has met the statutory and regulatory requirements for the initiation of a NSR. Therefore, we are initiating a NSR for Golden Banyan. See Memorandum to the File, from Shawn Higgins, International Trade Compliance Analyst, through Abdelali Elouaradia, Director, Office 4, AD/CVD Operations, “Initiation of Antidumping Duty New Shipper Review: Certain Preserved Mushrooms from the People(s Republic of China,” dated March 31, 2008.

We intend to issue the preliminary results of this review not later than 180 days after the date on which this review is initiated, and the final results of this review within 90 days after the date on which the preliminary results are issued. See section 751(a)(2)(B)(iv) of the Act; 19 CFR 351.214(h)(i).

Pursuant to 19 CFR 351.214(g)(1)(i)(A), the POR for a NSR initiated in the month immediately following the anniversary month will be the twelve-month period immediately preceding the anniversary month. As discussed above, under 19 CFR 351.214(f)(2)(ii), when the sale of the subject merchandise occurs within the POR, but the entry occurs after the normal POR, the POR may be extended. Therefore, the POR for the NSR of Golden Banyan is February 1, 2007, through February 29, 2008.

In cases involving non-market economies, the Department requires that a company seeking to establish eligibility for an antidumping duty rate separate from the country-wide rate provide evidence of de jure and de facto absence of government control over the company(s export activities. See Notice of Final Determination of Sales at Less Than Fair Value: Bicycles From the People(s Republic of China, 61 FR 19026, 19027 (April 30, 1996). Accordingly, we will issue a questionnaire to Golden Banyan, including a separate rates section. The review will proceed if the responses provide sufficient indication that Golden Banyan is not subject to either de jure or de facto government control with respect to its exports of preserved mushrooms. However, if Golden Banyan does not demonstrate its eligibility for a separate rate, then the company will be deemed not separate from other companies that exported during the POI and the NSR will be rescinded as to the company.

On August 17, 2006, the Pension Protection Act of 2006 (H.R. 4) was signed into law. Section 1632 of H.R. 4 temporarily suspends the authority of the Department to instruct CBP to collect a bond or other security in lieu of a cash deposit in NSRs. Therefore, the posting of a bond or other security under section 751(a)(2)(B)(iii) of the Act and 19 CFR 351.214(e) in lieu of a cash deposit is not available in this case. Importers of subject merchandise produced and exported by Golden Banyan must continue to pay a cash deposit of estimated antidumping duties on each entry of subject merchandise at the current PRC-wide rate of 198.63 percent.

Interested parties that require access to proprietary information in this NSR should submit applications for disclosure under administrative protective order in accordance with 19 CFR 351.305 and 351.306.

This initiation and notice are in accordance with section 751(a)(2)(B) of the Act, 19 CFR 351.214, and 19 CFR 351.221(c)(1)(i).

Dated: March 31, 2008.
Stephen J. Claeys,
Deputy Assistant Secretary for Import Administration.

[FR Doc. E8-7208 Filed 4-4-08; 8:45 am]

BILLING CODE 3510-DS-S